DEPARTMENT OF ENERGY

Federal Energy Regulatory Commission

[Docket Nos. EL00-95-179, et al.]

San Diego Gas & Electric Company, et al.; Electric Rate and Corporate Filings

March 7, 2006.

The following filings have been made with the Commission. The filings are listed in ascending order within each docket classification.

1. San Diego Gas & Electric Company v. Seller of Energy and Ancillary Services Into Markets Operated by the California Independent System Operator Corporation and the California Power Exchange

[Docket No. EL00-95-179]

Investigation of Practices of the California Independent System Operator Corporation and the California Power Exchange

[Docket No. EL00-98-165]

Take notice that on February 27, 2006, El Paso Marketing, L.P. filed a supplemental Cost Recovery Analysis, or in the alternative, a response to the Commission's Order issued January 26, 2006.

Comment Date: 5 p.m. Eastern Time on March 20, 2006.

2. TransCanada Hydro Northeast Inc.

[Docket No. ER05-111-003]

Take notice that on March 2, 2006, TransCanada Hydro Northeast Inc. (TC Hydro NE) filed proposed revisions to its FERC Electric Tariff No. 1 pursuant to Commission's February 16, 2006 Order.

TC Hydro NE requests a waiver of the requirements of § 35.13 of the regulations on the basis that those requirements are not relevant to the instant filing.

Comment Date: 5 p.m. Eastern Time on March 13, 2006.

3. South Carolina Electric and Gas Company

[Docket No. ER05-1165-005]

Take notice that on February 7, 2006, South Carolina Electric and Gas Company tendered for filing a revised compliance refund report.

Comment Date: 5 p.m. Eastern Time on March 17, 2006.

4. Teresa Conway

[Docket No. ID-4811-000]

Take notice that on February 14, 2006, Teresa Conway filed an Application for Authorization to Hold Interlocking Positions pursuant to Section 305(b) of the Federal Power Act and part 45 of the Commission's Regulations.

Comment Date: 5 p.m. Eastern Time on April 6, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3587 Filed 3-13-06; 8:45 am]

BILLING CODE 6717-01-P